DEPARTMENT OF ENERGY

Federal Energy Regulatory Commission

[Docket No. OR12-24-000]

R. Gordon Gooch v. Colonial Pipeline Company; Notice of Complaint

Take notice that on August 14, 2012, pursuant to section 13(1) of the Interstate Commerce Act (ICA) (49 App. U.S.C. 13(1) (1988)), Rule 206 of the Rules of Practice and Procedure of the Federal Energy Regulatory Commission (Commission) (18 CFR 385.206 (2012)), and section 343.2 of the Commission's regulations (18 CFR 343.2 (2012)), R. Gordon Gooch (Complainant) filed a formal complaint against Colonial Pipeline Company (Respondent) challenging the rates, terms, and conditions of Respondent's interstate transportation service in FERC Tariff Nos. 98.6.0,99.8.0, and 100.6.0, as set forth more fully in the complaint.

R. Gordon Gooch states that a copy of the Complaint has been served on the contact for the Respondent as listed on the Commission list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer, motions to intervene, and protests must be filed on or before the comment date. The Respondent's answer, motions to intervene, and protests must be served on the Complainant.

The Commission encourages electronic submission of protests and interventions in lieu of paper using the “eFiling” link at http://www.ferc.gov. Persons unable to file electronically should submit an original and 14 copies of protests and interventions to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket. For assistance with any FERC Online service, please email FERCOnlineSupport@ferc.gov, or call (866) 208-3676 (toll free). For TTY, call (202) 502-8659.

Comment Date: 5:00 p.m. Eastern Time on September 4, 2012.

Dated: August 16, 2012.
Kimberly D. Bose,
Secretary.

[FR Doc. 2012-20745 Filed 8-22-12; 8:45 am]

BILLING CODE 6717-01-P